ENVIRONMENTAL PROTECTION AGENCY

40 CFR Parts 52 and 81

[EPA-R03-OAR-2007-0453; FRL-8741-4]

Approval and Promulgation of Air Quality Implementation Plans; Pennsylvania; Redesignation of the Pittsburgh-Beaver Valley 8-Hour Ozone Nonattainment Area to Attainment and Approval of the Area's Maintenance Plan; Withdrawal of Proposed Rule

AGENCY: Environmental Protection Agency (EPA).

ACTION: Proposed rule; withdrawal.

SUMMARY: EPA is withdrawing the proposed rule to approve a redesignation request and a maintenance plan State Implementation Plan (SIP) revision submitted by the Commonwealth of Pennsylvania. In a proposed rule published on July 11, 2007, EPA proposed to approve a request that the Pittsburgh-Beaver Valley, Pennsylvania, ozone nonattainment area (the Pittsburgh Area) be redesignated as attainment for the 8-hour ozone national ambient air quality standard (NAAQS) that was promulgated on July 18, 1997. In conjunction with the proposed action on the redesignation request, we also proposed to approve a maintenance plan for the Pittsburgh Area that provides for continued attainment of the 8-hour ozone NAAQS for at least 10 years after redesignation, and, to approve a 2002 base year inventory for the Pittsburgh Area. On May 29, 2008, the Pennsylvania Department of Environmental Protection (PADEP) submitted a letter to formally withdraw the redesignation request and the maintenance plan SIP revision.

FOR FURTHER INFORMATION CONTACT: Christopher Cripps, (215) 814-2179, or by e-mail at cripps.christopher@epa.gov.

SUPPLEMENTARY INFORMATION: Throughout this document whenever “we”, “us”, or “our” is used, we mean EPA.

I. Background

On April 26, 2007, the PADEP formally submitted a request to redesignate the Pittsburgh Area from nonattainment to attainment of the 8-hour NAAQS promulgated on July 18, 1997 (62 FR 38856) (the “1997 8-hour ozone NAAQS”). ¹ Concurrently, on April 26, 2007, the PADEP submitted a maintenance plan for the Pittsburgh Area as a SIP revision to ensure continued attainment of the 8-hour NAAQS for at least 10 years after redesignation. The PADEP also submitted a 2002 base year inventory as a SIP revision on April 26, 2007.

¹ On March 27, 2008 (73 FR 16436), EPA revised the level of the primary and secondary 8-hour ozone NAAQS from 0.08 parts per million (ppm) to 0.075 ppm, but the Pittsburgh Area has not yet been designated under this revision to the NAAQS.

In a proposed rule published on July 11, 2007 (72 FR 37683) in the Federal Register, EPA proposed to determine that the Pittsburgh Area had attained the 1997 8-hour ozone NAAQS. In addition, we proposed to approve the April 26, 2007, request that the Pittsburgh Area be redesignated as attainment for the 1997 8-hour NAAQS. See, 72 FR 37683 at 38864, 38686, July 11, 2008.

In the proposed rule published on July 11, 2007, we also proposed to approve two SIP revisions: (1) A maintenance plan for the Pittsburgh Area that provides for continued attainment of the 1997 8-hour ozone NAAQS for at least 10 years after redesignation including the motor vehicle emissions budgets (MVEBs) that were identified in this maintenance plan; and (2) a 2002 base year inventory for the Pittsburgh Area.

On May 29, 2008, the PADEP submitted a letter to formally withdraw the redesignation request and the maintenance plan SIP revision. On August 1, 2008, PADEP affirmed that the Commonwealth was not withdrawing the 2002 base year emissions inventory SIP revision submitted on April 26, 2007, and submitted a redacted SIP revision which contained only the 2002 base year emissions inventory.

Now that the Commonwealth of Pennsylvania has withdrawn the redesignation request and the maintenance plan SIP revision from our consideration, we must withdraw our proposed actions on the redesignation request and on the maintenance plan and its associated MVEBs. In addition, we are withdrawing our proposed determination that the Pittsburgh Area has attained the 1997 8-hour ozone NAAQS.

The other proposed action published on July 11, 2007, on the SIP revision consisting of the 2002 base year inventory for the Pittsburgh Area is neither affected by this notice nor withdrawn. In this notice to withdraw the proposed rulemaking actions on the maintenance plan SIP revision and the redesignation request, EPA is not instituting a second comment period on the proposed action to approve the 2002 base year inventory for the Pittsburgh Area. EPA will make its final decision on the 2002 base year inventory for the Pittsburgh Area in a separate rulemaking action.

II. Withdrawal of Proposed Actions

Therefore, EPA is withdrawing the following proposed approval actions published on July 11, 2007 (72 FR 37683 at 37694): (1) The determination that the Pittsburgh Area has attained the 1997 8-hour ozone NAAQS; (2) the Commonwealth's April 26, 2007, request that the Pittsburgh Area to be designated to attainment of the 1997 8-hour NAAQS for ozone; and (3) the maintenance plan and its MVEBs for the Pittsburgh Area, which was submitted on April 26, 2007, as revision to the Pennsylvania SIP.

List of Subjects

40 CFR Part 52

Environmental protection, Air pollution control, Nitrogen oxides, Ozone, Reporting and recordkeeping requirements, Volatile organic compounds.

40 CFR Part 81

Air pollution control, National parks, Wilderness areas.

Dated: November 7, 2008.
Donald S. Welsh,
Regional Administrator, Region III.

[FR Doc. E8-27211 Filed 11-14-08; 8:45 am]

BILLING CODE 6560-50-P